DEPARTMENT OF DEFENSE

Office of the Secretary

Meeting of the Historical Records Declassification Advisory Panel

AGENCY: Historical Advisory Committee, DOD.

ACTION: Notice of open meeting.

SUMMARY: Notice is hereby given of the forthcoming meeting of the Historical Records Declassification Advisory Panel (HRDAP). The purpose of this meeting is to discuss recommendations to the Department of Defense on topical areas of interest that, from a historical perspective, would be of the greatest benefit to the public if declassified. This is the second session held in 2000. The OSD Historical will chair this meeting.

DATES: Tuesday, September 26, 2000.

TIME: The meeting is scheduled 9 a.m. to 3 p.m.

ADDRESSES: The National Archives Building, Room 105, 7th and Pennsylvania Avenue, NW., Washington, DC 20408.

FOR FURTHER INFORMATION CONTACT: Mr. Jeffrey Ross, Room 1D760B, Office of the Deputy Assistant Secretary of Defense (Security and Information Operations), Office of the Assistant Secretary of Defense (Command, Control, Communications and Intelligence), 6000 Defense Pentagon, Washington, DC 20302-6000, telephone (703) 614-5995.

Dated: September 7, 2000.
Linda Bynum,
Alternate OSD Federal Register Liaison, Department of Defense.

[FR Doc. 00-23428 Filed 9-12-00; 8:45 am]

BILLING CODE 5001-10-M